DEPARTMENT OF THE INTERIOR

National Park Service

Notice of Availability of a Final Environmental Impact Statement (EIS) for the General Management Plan Amendment (GMPA) for Biscayne National Park, Homestead, FL

SUMMARY: Pursuant to section 102 (2) (c) of the National Environmental Policy Act of 1969, the National Park Service announces the availability of a final Environmental Impact Statement and General Management Plan Amendment (FEIS/GMPA) for Biscayne National Park, Homestead, Florida.

DATES: The Draft EIS/GMP was on public review from December 6, 2002, through February 13, 2003. Responses to public comment are addressed in the FEIS/GMPA. A 30-day no-action period will follow the Environmental Protection Agency's Notice of Availability of the FEIS/GMPA in the Federal Register. After the 30-day period, the NPS Southeast Regional Director will sign a Record of Decision that will document NPS approval of the final EIS/GMPA and identify the selected alternative for implementation.

ADDRESSES: Copies of the FEIS/GMPA are available from the Superintendent, Biscayne National Park, P.O. Box 1369, Homestead, Florida 33090-1369. Public reading copies of the FEIS/GMPA will also be available for review at the following locations:

• Office of the Superintendent, Biscayne National Park, 9700 S.W. 328th Street, Homestead, Florida 33033-5634. Telephone: 305-230-1144, Ext. 3002.

• Division of Planning and Compliance, Southeast Regional Office, National Park Service, Attention: David Libman, 100 Alabama Street, 1924 Building, Atlanta, Georgia 30303, Telephone: 404-562-3124, ext. 685.

SUPPLEMENTARY INFORMATION: Consistent with the park's purpose, significance, and mission goals, the FEIS/GMPA analyzes 4 alternatives for guiding management of the Stiltsville area of the park over the next 15 to 20 years. The environmental consequences anticipated from implementation of the various alternatives are addressed in the document. Impact topics include cultural resources, natural resources, visitor use and experience and socioeconomic environment. The following management alternatives were evaluated in the EIS/GMPA:

Under Alternative A, the preferred alternative, a non-profit organization would be created along with an appropriate agreement with the National Park Service and other groups for the management and use of the Stiltsville structures. The Stiltsville organization would rehabilitate the buildings to support education and interpretation opportunities. Stiltsville also may provide a visitor and interpretive center, research facilities, an artist-in-residence dwelling, meeting space, and a satellite park office that would provide for National Park Service presence in the northern portion of the park.

Alternative B, would result in the National Park Service being responsible for the renovation, management, and operation of the Stiltsville structures. The designated uses of the structures would be similar to Alternative A.

Under Alternative C, the structures would be leased for private use based on current authorities. Potential lessees would compete for the right to lease the structures. The size or footprint of the structure would not be expanded. The purposes for which the structures could be leased is similar to Alternative A as well as for private uses similar to those under the former non-renewable leases. Preference would be given to individuals or groups that would provide for some level of public access.

Alternative D is the no-action alternative, which would implement the provision of the non-renewable leases that calls for the removal of the structures from the Stiltsville area.

FOR FURTHER INFORMATION CONTACT: Superintendent, Biscayne National Park, P.O. Box 1369, Homestead, FL 33090-1369, Telephone: 305-230-1144, Ext. 2002.

The responsible official for this Environmental Impact Statement is William Schenk, Regional Director, Southeast Region, National Park Service, 100 Alabama Street SW., 1924 Building, Atlanta, Georgia 30303.

Dated: February 21, 2003.
William W. Schenk,
Regional Director, Southeast Region.

[FR Doc. 03-10908 Filed 5-1-03; 8:45 am]

BILLING CODE 4310-70-P